DEPARTMENT OF ENERGY

Federal Energy Regulatory Commission

[Docket No. PR00-18-000]

Great Lakes Energy Partners, L.L.C.; Notice of Petition for Rate Approval

June 21, 2000.

Take notice that on June 19, 2000, Great Lakes Energy Partners, L.L.C. (GLEP) filed, pursuant to Section 284.123(b)(2) of the Commission's Regulations, a petition for rate approval requesting that the Commission approve a system-wide maximum rate of 71.4¢ per MMBtu applicable to interruptible transportation service rendered on its system in the State of Pennsylvania. GLEP states that this rate will be applicable to the transportation of natural gas under Section 311(a)(2) of the Natural Gas Policy Act of 1978 (NGPA).

Pursuant to Section 284.123(b)(2)(ii), if the Commission does not act within 150 days of this filing the rates will be deemed to be fair and equitable and not to excess of an amount which interstate pipelines would be permitted to charge for similar transportation service. The Commission may within such 150 day period extend the time for action or institute a proceeding in which all interested parties will be afforded an opportunity for written comments and the oral presentation of views, data and arguments.

Any person desiring to participate in this rate proceeding must file a motion to intervene or protest with the Federal Energy Regulatory Commission, 888 First Street, NE., Washington, DC 20426, in accordance with rules 211 and 214 of the Commission's Rules of Practice and Procedure (18 CFR 385.211 and 385.214). All motions must be filed with the Secretary of the Commission on or before July 5, 2000. This petition for rate approval is on file with the Commission and is available for public inspection. This filing may be viewed on the web at http://www.ferc.fed.us/online/rims.htm (call 202-208-2222 for assistance).

David P. Boergers,
Secretary.

[FR Doc. 00-16141 Filed 6-26-00; 8:45 am]

BILLING CODE 6717-01-M